DEPARTMENT OF THE INTERIOR

Fish and Wildlife Service

[FWS-R9-ES-2012-N245; FXES111309WLLF0D2-123-FF09E30000]

Information Collection Request Sent to the Office of Management and Budget (OMB) for Approval; Wolf-Livestock Demonstration Project Grant Program

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before November 26, 2012.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or INFOCOL@fws.gov (email). Please include “1018-WLDPGP” in the subject line of your comments.

FOR FURTHER INFORMATION CONTACT: To request additional information about this ICR, contact Hope Grey at INFOCOL@fws.gov (email) or 703-358-2482 (telephone). You may review the ICR online at http://www.reginfo.gov. Follow the instructions to review Department of the Interior collections under review by OMB.

SUPPLEMENTARY INFORMATION: OMB Control Number: 1018-XXXX. This is a new collection.

Title: Wolf-Livestock Demonstration Project Grant Program.

Service Form Number: None.

Type of Request: Request for a new OMB control number.

Description of Respondents: States and Indian tribes.

Number of Respondents: 22.

Respondent's Obligation: Required to obtain or retain a benefit.

Frequency of Collection: On occasion.

Activity | Number of responses | Completion time per response | Total annual burden hours
Applications | 22 | 8 hours | 176
Reports and Recordkeeping | 20 | 14 hours | 280
Totals | 42 |  | 456

Abstract: Subtitle C of Title VI of the Omnibus Public Land Management Act of 2009 (Act) (Pub. L. 111-11) authorizes the Secretary of the Interior and the Secretary of Agriculture to develop a Wolf-Livestock Demonstration Project Grant Program (WLDPGP) to:

• Assist livestock producers in undertaking proactive, nonlethal activities to reduce the risk of livestock loss due to predation by wolves; and

• Compensate livestock producers for livestock losses due to such predation.

The Act directs that the program be established as a grant program to provide funding to States and tribes, that the Federal cost-share not exceed 50 percent, and that funds be expended equally between the two purposes. The Act included an authorization of appropriations up to $1 million each fiscal year for 5 years. The U.S. Fish and Wildlife Service Endangered Species Program will allocate the funding as competitively awarded grants to States and tribes with a prior history of wolf depredation. States with delisted wolf populations are eligible for funding, provided that they meet the eligibility criteria contained in Public Law 111-11.

The following additional criteria apply to all WLDPGP grants and must be satisfied for a project to receive WLDPGP funding:

• A proposal cannot include U.S. Fish and Wildlife Service full-time equivalent (FTE) costs.

• A proposal cannot seek funding for projects that serve to satisfy regulatory requirements of the Endangered Species Act (ESA) including complying with a biological opinion under section 7 or fulfilling commitments of a Habitat Conservation Plan (HCP) under section 10, or for projects that serve to satisfy other Federal regulatory requirements (e.g., mitigation for Federal permits).

• State administrative costs must be assumed by the State or included in the proposal in accordance with Federal requirements.

We will publish notices of funding availability on the Grants.gov Web site at http://www.grants.gov as well as in the Catalog of Federal Domestic Assistance at http://cfda.gov. To compete for grant funds, eligible States and tribes must submit an application that describes in substantial detail project locations, project resources, future benefits, and other characteristics that meet the Wolf-Livestock Demonstration Project Grant Program purposes as listed above. In accordance with the Act, States and tribes that receive a grant must:

• Maintain files of all claims received under programs funded by the grant, including supporting documentation; and

• Submit an annual report that includes a summary of claims and expenditures under the program during the year and a description of any action taken on the claims.

Materials that describe the program and assist applicants in formulating project proposals will be available on our Web site at www.fws.gov/grants. Persons who do not have access to the Internet may obtain instructional materials by mail.

Comments: On April 2, 2012, we published in the Federal Register (77 FR 19682) a notice of our intent to request that OMB approve this information collection. In that notice, we solicited comments for 60 days, ending on June 1, 2012. We received one comment in response to that notice. The commenter objected to this grant program, but did not address the information collection requirements. We did not make any changes to the requirements.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 18, 2012.
Tina A. Campbell,
Chief, Division of Policy and Directives Management, U.S. Fish and Wildlife Service.

[FR Doc. 2012-26261 Filed 10-24-12; 8:45 am]

BILLING CODE 4310-55-P